DEPARTMENT OF ENERGY

Federal Energy Regulatory Commission

[Project Nos. 2130-033, 2118-007, 2005-012, and 2067-020]

Notice of Intent To Prepare an Environmental Impact Statement and Notice of Scoping Meetings and Site Visit and Soliciting Scoping Comments

May 21, 2003.

Take notice that the following hydroelectric applications have been filed with Commission and are available for public inspection:

a. Type of Applications: New Major Licenses.

b. Project Nos.: 2130-033, 2118-007, 2005-012, and 2067-020.

c. Dates filed: P-2130 and P-2118 filed December 26, 2002; P-2005 and P-2067 filed December 23, 2002.

d. Applicants: Pacific Gas and Electric Company, current licensee for P-2130 and P-2118; and Tri-Dam Project, current licensee for P-2005 and P-2067.

e. Name of Projects: Spring Gap-Stanislaus Project No. 2130-033, Donnells-Curtis Transmission Line Project No. 2118-007, Beardsley/Donnells Project No. 2005-012, and Tulloch Project No. 2067-020.

f. Location: On the Middle Fork, South Fork, and mainstem of the Stanislaus River in Toulomne and Calaveras counties, California. All of the Beardsley/Donnells Project, most of the Spring Gap-Stanislaus Project, and all of the Donnell-Curtis Transmission Line Project are located within the Stanislaus National Forest.

g. Filed Pursuant to: Federal Power Act, 16 U.S.C. §§ 791(a)—825(r).

h. Applicant Contact: Mr. Randy Livingston, Pacific Gas and Electric Company, PO Box 770000, Mail Code: N11C, San Francisco, CA 94117; and Mr. Steve Felte Tri-Dam Project, PO Box 1158, Pinecrest, CA 95364.

i. FERC Contact: Susan O'Brien, susan.obrien@ferc.gov, (202) 502-8449.

j. Deadline for filing scoping comments: July 21, 2003.

All documents (original and eight copies) should be filed with: Magalie R. Salas, Secretary, Federal Energy Regulatory Commission, 888 First Street, NE., Washington, DC 20426.

The Commission's rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. These applications are not ready for environmental analysis at this time.

l. The existing Spring Gap-Stanislaus Project is composed of four developments: Relief, Pinecrest, Spring Gap, and Stanislaus. It has a combined capacity of 98 MW.

The existing Donnells-Curtis Transmission Line Project is a 115 kV transmission line. Portions of the transmission line under FERC jurisdiction include an 8-mile segment extending from Donnells Powerhouse to Spring Gap Junction and the 2.2-mile tap line from Beardsley Powerhouse to Beardsley Junction.

The existing Beardsley/Donnell Project is composed of the Beardsley and Donnell Developments and has a combined capacity of 64 MW.

The existing Tulloch Project is composed of a single development and has a capacity of 17.1 MW.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/esubscribenow.htm to be notified via email of new filings and issuances related to this or other pending projects. For assistance, contact FERC Online Support.

n. Scoping Process: The Commission intends to prepare an Environmental Impact Statement (EIS) on the projects in accordance with the National Environmental Policy Act. The EIS will consider both site-specific and cumulative environmental impacts and reasonable alternatives to the proposed action.

Scoping Meetings

FERC staff will conduct one evening meeting and one daytime scoping meeting. The evening scoping meeting is primarily for public input, while the daytime scoping meeting will focus on resource agency and non-governmental organization (NGO) concerns. All interested individuals, organizations, and agencies are invited to attend one or both of the meetings, and to assist the staff in identifying the scope of the environmental issues that should be analyzed in the EIS. The times and locations of these meetings are as follows:

Evening Scoping Meeting

Date: Wednesday, June 18, 2003.

Time: 7:30 p.m.

Place: Stanislaus National Forest Office Building.

Address: 19777 Greenley Road, Sonora, California.

Daytime Scoping Meeting

Date: Thursday, June 19, 2003.

Time: 9 a.m.

Place: Stanislaus National Forest Office Building.

Address: 19777 Greenley Road, Sonora, California.

Copies of the Scoping Document (SD1) outlining the subject areas to be addressed in the EIS are being distributed to the parties on the Commission's mailing list. Copies of the SD1 will be available at the scoping meeting or may be viewed on the web at http://www.ferc.gov using the “FERRIS” link (see item m above).

Site Visit

Due to the logistics involved in traveling to some project locations, there is a need to know the number of attendees in advance. All individuals planning to attend need to call Susan O'Brien, FERC Team Leader, at (202) 502-8449, no later than Thursday, June 12, 2003.

FERC staff and the Applicants and will conduct a 2-day project site visit on June 17 and June 18, 2003, beginning at 7 a.m. each morning. Additionally, on Friday, June 20, 2003, some participants will hike up to Relief Reservoir. All interested individuals, organizations, and agencies are invited to attend any or all three days of the site visit. All participants should meet each morning at the Best Western Sonora Oaks Hotel main entrance, 19551 Hess Ave, Sonora, CA. All participants need to bring their own lunch and are responsible for their own transportation, although we will try to carpool. Four-wheel-drive vehicles are needed to get to some locations.

Tentative schedule for site visit (times given are in Pacific Daylight Savings):

Tuesday June 17

7 am: Site Visit Group departs from Best Western Hotel in Sonora, CA

Morning: Pinecrest Lake, Donnells Reservoir, Donnells Dam

Afternoon: Hells Half Acre, Beardsley day use site, Beardsley Reservoir and Afterbay, Sand Bar diversion and Stanislaus Tunnel intake, Philadelphia Forebay, and Philadelphia Diversion

Wednesday, June 18

7 a.m.: Site Visit Group departs from Best Western Hotel in Sonora, CA

Morning: Stanislaus Power House via Columbia stopping at old Afterbay, continue to Power House. Split into 2 groups. Group 1: Stanislaus Power House, Tulloch via Angels Camp & Highway 4 stopping at Tulloch Resort Group 2: Stanislaus Forebay

Afternoon:-Group 1: Drive through of Conner Estates and Peninsula Estates then on to O'Byrne's Ferry Bridge, Tulloch Dam All: groups rejoin at Goodwin and Tulloch Reservoir, drive through of South Shore Marina and stop for view at Goodwin

5 p.m: Return to Sonora for preparation of evening meeting.

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EIS.

Magalie R. Salas,
Secretary.

[FR Doc. 03-13293 Filed 5-28-03; 8:45 am]

BILLING CODE 6717-01-P